DEPARTMENT OF ENERGY

Federal Energy Regulatory Commission

[Docket No. EL09-47-000; Docket No. EL09-48-000]

Notice of Designation of Commission Staff as Non-Decisional

September 18, 2009.

Richard Blumenthal, Attorney General for the State of Connecticut v. ISO New England Inc., et al.;

The Connecticut Department of Public Utility Control and the Connecticut Office of Consumer Counsel, v. ISO New England Inc., et al. (Consolidated).

With respect to the August 24, 2009 order issued by the Commission in the above-captioned dockets establishing hearing procedures and directing the participation of the litigation staff of the Office of Enforcement, ¹ the staff of the Office of Enforcement is designated as non-decisional in deliberations by the Commission in the above-referenced docket nos. for purposes of 18 CFR 385.2202 (2009).

¹ 128 FERC ¶ 61,182.

Kimberly D. Bose,
Secretary.

[FR Doc. E9-23286 Filed 9-25-09; 8:45 am]

BILLING CODE 6717-01-P